NATIONAL AERONAUTICS AND SPACE ADMINISTRATION

[Notice: (19-021)]

NASA Advisory Council; Human Exploration and Operations Committee; Meeting

AGENCY: National Aeronautics and Space Administration.

ACTION: Notice of meeting postponement.

Reference: Federal Register, Vol. 84, No. 71, Friday, April 12, 2019, Notices, page 14976.

SUMMARY: In accordance with the Federal Advisory Committee Act, Public Law 92-463, as amended, the National Aeronautics and Space Administration (NASA) announces a postponement of the meeting of the Human Exploration and Operations Committee of the NASA Advisory Council (NAC) scheduled for April 30, 2019, and May 1, 2019, at NASA Headquarters. This meeting is being postponed due to scheduling conflicts of the key participants. The new dates for this meeting will be scheduled in the near future, and announced in the Federal Register.

FOR FURTHER INFORMATION CONTACT: Dr. Bette Siegel, Designated Federal Officer, Human Exploration and Operations Mission Directorate, NASA Headquarters, Washington, DC 20546, (202) 358-2245, or bette.siegel@nasa.gov.

Patricia Rausch,
Advisory Committee Management Officer, National Aeronautics and Space Administration.

[FR Doc. 2019-08457 Filed 4-25-19; 8:45 am]

BILLING CODE 7510-13-P